SECURITIES AND EXCHANGE COMMISSION

[Release No. 34-100547; File No. 10-244]

Self-Regulatory Organizations; Green Impact Exchange, LLC; Notice of Filing of Application for Registration as a National Securities Exchange Under Section 6 of the Securities Exchange Act of 1934

July 17, 2024.

On May 9, 2024, Green Impact Exchange, LLC (“GIX” or “Applicant”) submitted to the Securities and Exchange Commission (“Commission”) a Form 1 application under the Securities Exchange Act of 1934 (“Exchange Act”), seeking registration as a national securities exchange under Section 6 of the Exchange Act.¹ The Applicant's Form 1 application provides detailed information on how GIX proposes to satisfy the requirements of the Exchange Act.

¹ 15 U.S.C. 78f.

The Commission is publishing this notice to solicit comments on GIX's Form 1 application. The Commission will take any comments it receives into consideration in making its determination about whether to grant GIX's request to be registered as a national securities exchange. The Commission will grant the registration if it finds that the requirements of the Exchange Act and the rules and regulations thereunder with respect to GIX are satisfied.²

² 15 U.S.C. 78s(a).

GIX's Form 1 application states that GIX would be wholly owned by its parent company, Green Exchange, PBC (“GEPBC”). The Form 1 application provides that GIX would operate a fully automated electronic trading platform for the trading of listed equities and would not maintain a physical trading floor. One feature of GIX's Form 1 application is that GIX proposes to enter into an agreement with MEMX Technologies, LLC to license the technology underlying the GIX trading platform.³ The Form 1 application provides that liquidity would be derived from orders to buy and orders to sell submitted to GIX electronically by GIX members from remote locations. GIX proposes to have one class of membership open to registered broker-dealers. A novel feature of GIX's proposed listing standards is that GIX intends to require all companies that list on GIX to comply with its Green Governance Standards, which, according to GIX, will be designed to provide transparency and accountability for listed companies' green and sustainability promises and signal to investors focused on green practices that listed companies are credible.⁴

³ See Exhibits C and E to GIX's Form 1 application.

⁴ See proposed GIX Rule Series 14.425 (describing the Green Governance Standards).

A more detailed description of the manner of operation of GIX's proposed system can be found in Exhibit E to GIX's Form 1 application. The proposed rulebook for the proposed exchange can be found in Exhibit B to GIX's Form 1 application, and the governing documents for GIX and GEPBC can be found in Exhibit A and Exhibit C to GIX's Form 1 application. A listing of the officers and directors of GIX can be found in Exhibit J to GIX's Form 1 application. A complete set of forms concerning membership and access can be found in Exhibit F to GIX's Form 1 application. A discussion of GIX's Green Governance Standards and their consistency with the Exchange Act can be found in Exhibit H-5 to GIX's Form 1 application.

GIX's Form 1 application, including all of the Exhibits referenced above, is available online at www.sec.gov/rules/other.shtml. Interested persons are invited to submit written data, views, and arguments concerning GIX's Form 1 application, including whether the application is consistent with the Exchange Act.

Comments may be submitted by any of the following methods:

Electronic Comments

• Use the Commission's internet comment form (https://www.sec.gov/rules/sro.shtml); or

• Send an email to rule-comments@sec.gov. Please include file number 10-244 on the subject line.

Paper Comments

• Send paper comments in triplicate to Secretary, Securities and Exchange Commission, 100 F Street NE, Washington, DC 20549-1090.

All submissions should refer to file number 10-244. This file number should be included on the subject line if email is used. To help the Commission process and review your comments more efficiently, please use only one method. The Commission will post all comments on the Commission's internet website (https://www.sec.gov/rules/other.shtml). Copies of the submission, all subsequent amendments, all written statements with respect to GIX's Form 1 application filed with the Commission, and all written communications relating to the application between the Commission and any person, other than those that may be withheld from the public in accordance with the provisions of 5 U.S.C. 552, will be available for website viewing and printing in the Commission's Public Reference Room, 100 F Street NE, Washington, DC 20549, on official business days between the hours of 10 a.m. and 3 p.m. Copies of the filing also will be available for inspection and copying at the principal office of the Exchange. Do not include personal identifiable information in submissions; you should submit only information that you wish to make available publicly. We may redact in part or withhold entirely from publication submitted material that is obscene or subject to copyright protection. All submissions should refer to file number 10-244 and should be submitted on or before September 6, 2024.

⁵ 17 CFR 200.30-3(a)(16) and (a)(71)(i).

For the Commission, by the Division of Trading and Markets, pursuant to delegated authority.⁵

J. Matthew DeLesDernier,
Deputy Secretary.

[FR Doc. 2024-16107 Filed 7-22-24; 8:45 am]

BILLING CODE 8011-01-P